DEPARTMENT OF TRANSPORTATION

Federal Aviation Administration

Office of Commercial Space Transportation: Notice of Availability and Request for Comment on the Draft Environmental Assessment for SpaceX Falcon Launches at Kennedy Space Center and Cape Canaveral Air Force Station

AGENCY: Federal Aviation Administration, DOT.

ACTION: Notice of availability and request for comment.

SUMMARY: In accordance with the National Environmental Policy Act of 1969, as amended (NEPA), Council on Environmental Quality NEPA implementing regulations, and FAA Order 1050.1F, Environmental Impacts: Policies and Procedures, the FAA is announcing the availability of and requesting comment on the Draft Environmental Assessment for SpaceX Falcon Launches at Kennedy Space Center and Cape Canaveral Air Force Station (Draft EA).

DATES: Comments must be received on or before March 20, 2020.

ADDRESSES: Comments should be mailed to Mr. Daniel Czelusniak, Environmental Protection Specialist, Federal Aviation Administration, 800 Independence Avenue SW, Suite 325, Washington, DC 20591. Comments may also be submitted by email to FAAFalconProgramEA@icf.com.

FOR FURTHER INFORMATION CONTACT: Mr. Daniel Czelusniak, Environmental Protection Specialist, Federal Aviation Administration, 800 Independence Avenue SW, Suite 325, Washington, DC 20591; phone (202) 267-5924; email Daniel.Czelusniak@faa.gov.

SUPPLEMENTARY INFORMATION: SpaceX is applying to the FAA for launch licenses to launch the Falcon 9 and Falcon Heavy from Kennedy Space Center's (KSC) Launch Complex 39A (LC-39A) and Cape Canaveral Air Force Station's (CCAFS) Launch Complex 40 (LC-40). SpaceX is also applying to the FAA for reentry licenses for Dragon reentry operations. The FAA's proposal to issue licenses to SpaceX is considered a major federal action subject to environmental review under NEPA. Due to SpaceX's ability to launch more frequently at KSC and CCAFS, SpaceX's launch manifest includes more annual Falcon launches and Dragon reentries than were considered in previous NEPA analyses. Also, SpaceX is proposing to add a new Falcon 9 southern launch trajectory from Florida for payloads requiring polar orbits. SpaceX is also proposing to construct a mobile service tower (MST) at LC-39A to support commercial launches and the U.S. Air Force's National Security Space Launch program. NASA is responsible for approving the construction of the MST at LC-39A. The FAA has no federal action related to the construction of the MST.

Alternatives under consideration include the Proposed Action and the No Action Alternative. Under the No Action Alternative, the FAA would not modify existing SpaceX licenses or issue new licenses to SpaceX for Falcon launches or Dragon reentry operations at KSC and CCAFS. SpaceX would continue Falcon 9 and Falcon Heavy launch operations at KSC and CCAFS, as well as Dragon reentry operations, as analyzed in previous NEPA and environmental reviews and in accordance with existing FAA licenses until the licenses expire.

The Draft EA evaluates the potential environmental impacts from the Proposed Action and No Action Alternative on air quality; biological resources; climate; coastal resources; Department of Transportation Act Section 4(f); farmlands; hazardous materials, solid waste, and pollution prevention; historical, architectural, archeological, and cultural resources; land use; natural resources and energy supply; noise and noise-compatible land use; socioeconomics, environmental justice, and children's environmental health and safety risks; visual effects (including light emissions); and water resources.

The FAA has posted the Draft EA on the FAA Office of Commercial Space Transportation website: https://www.faa.gov/space/environmental/nepa_docs/.

The FAA encourages all interested parties to provide comments concerning the scope and content of the Draft EA. Before including your address, phone number, email address, or other personal identifying information in your comment, be advised that your entire comment—including your personal identifying information—may be made publicly available at any time. While you can ask the FAA in your comment to withhold from public review your personal identifying information, the FAA cannot guarantee that we will be able to do so.

Issued in Washington, DC on: February 21, 2020.
Daniel Murray,
Manager, Space Transportation Development Division.

[FR Doc. 2020-04039 Filed 2-26-20; 8:45 am]

BILLING CODE 4910-13-P